DEPARTMENT OF VETERANS AFFAIRS

Special Medical Advisory Group; Notice of Availability of Annual Report

Under Section 10(d) of Public Law 92-463 (Federal Advisory Committee Act), notice is hereby given that the Annual Report of the Department of Veterans Affairs Special Medical Advisory Group for Fiscal Year 2004 has been issued.

The report summarizes activities of the Group relative to the care and treatment of disabled veterans and other matters pertinent to the Department of Veterans Affairs, Veterans Health Administration. It is available for public inspection at two locations: Federal Advisory Committee Desk, Library of Congress, Anglo-American Acquisition Division, Government Documents Section, Room LM-B42, 101 Independence Avenue, SE., Washington, DC 20540; and Department of Veterans Affairs, Office of the Under Secretary for Health, VA Central Office, Suite 800, 810 Vermont Avenue, NW., Washington, DC 20420.

Dated: January 19, 2005.
By direction of the Secretary.
E. Phillip Riggin,
Committee Management Officer.

[FR Doc. 05-3789 Filed 2-25-05; 8:45 am]

BILLING CODE 8320-01-M